DEPARTMENT OF HEALTH AND HUMAN SERVICES

Centers for Disease Control and Prevention

Office for State, Tribal, Local and Territorial Support (OSTLTS)

In accordance with Presidential Executive Order No. 13175, November 6, 2000, and the Presidential Memorandum of November 5, 2009, and September 23, 2004, Consultation and Coordination with Indian Tribal Governments, CDC/Agency for Toxic Substances and Disease Registry (ATSDR), announces the following meetings and Tribal Consultation Session:

Name: Tribal Caucus, CDC/ATSDR Tribal Advisory Committee (TAC) Meeting and 16th Biannual Tribal Consultation Session

Times and Dates:

8:00 a.m.-5:00 p.m., EST, February 14, 2017 (Tribal Caucus)

8:00 a.m.-5:00 p.m., EST, February 15, 2017 (TAC Meeting and 16th Biannual Tribal Consultation Session)

Place: The Tribal Caucus, TAC Meeting and Tribal Consultation Session will be held at CDC, Global Communications Center, Building 19, Auditorium B3, 1600 Clifton Road NE., Atlanta, Georgia 30329.

Status: The meetings are being hosted by CDC/ATSDR in-person only and are open to the public. Attendees must pre-register for the event by Friday, January 13, 2017, at the following link: http://www.cdc.gov/tribal/meetings.html.

Purpose: The purpose of these recurring meetings is to advance CDC and ATSDR support for and collaboration with American Indian and Alaska Native (AI/AN) tribes, and to improve the health of AI/AN tribes by pursuing goals that include assisting in eliminating the health disparities faced by AI/AN tribes; ensuring that access to critical health and human services and public health services is maximized to advance or enhance the social, physical, and economic status of AI/ANs; and promoting health equity for all Indian people and communities. To advance these goals, CDC and ATSDR conducts government-to-government consultations with elected tribal officials or their authorized representatives. Consultation is an enhanced form of communication that emphasizes trust, respect, and shared responsibility. It is an open and free exchange of information and opinion among parties that leads to mutual understanding and comprehension.

Matters for Discussion: The TAC Meeting and Biannual Tribal Consultation Session will provide opportunities for tribal leaders to speak openly about the public health issues affecting their tribes. These meetings will include, but are not limited to, discussions about advancing CDC's tribal budget consultation process, connecting cultural and traditional practices to evidence-based interventions, and expanding disease prevention efforts throughout Indian country.

Tribes will also have an opportunity to present testimony about tribal health issues. All Tribal leaders are encouraged to submit written testimony by 5:00 p.m., EST, Friday, January 13, 2017, to LCDR Jessica Damon, Public Health Advisor for the Tribal Support Unit, OSTLTS, via mail to 4770 Buford Highway NE., MS E-70, Atlanta, Georgia, 30341-3717 or email to TribalSupport@cdc.gov.

Based on the number of tribal leaders giving testimony and the time available, it may be necessary to limit the time for each presenter.

The agenda is subject to change as priorities dictate.

Information about the TAC, CDC/ATSDR's Tribal Consultation Policy, and previous meetings can be found at http://www.cdc.gov/tribal.

Contact person for more information: LCDR Jessica Damon, Public Health Advisor, CDC/OSTLTS, 4770 Buford Highway NE., MS E-70, Atlanta, Georgia 30341-3717; email: TribalSupport@cdc.gov or telephone (404) 498-0563.

The Director, Management Analysis and Services Office, has been delegated the authority to sign Federal Register notices pertaining to announcements of meetings and other committee management activities, for both the Centers for Disease Control and Prevention, and the Agency for Toxic Substances and Disease Registry.

Elaine L. Baker,
Director, Management Analysis and Services Office, Centers for Disease Control and Prevention.

[FR Doc. 2016-29175 Filed 12-5-16; 8:45 am]

BILLING CODE 4163-18-P